ENVIRONMENTAL PROTECTION AGENCY

[EPA-HQ-OPPT-2017-0410; FRL-9971-47]

Certain New Chemicals; Receipt and Status Information for October 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from October 2, 2017 to October 31, 2017.

DATES: Comments identified by the specific case number provided in this document, must be received on or before February 1, 2018.

ADDRESSES: Submit your comments, identified by docket identification (ID) number EPA-HQ-OPPT-2017-0410, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, IMD 7407M, Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR parts 2.

2. Tips for preparing your comments. When preparing and submitting your comments, see the commenting tips at http://www.epa.gov/dockets/comments.html.

II. What action is the Agency taking?

This document provides receipt and status reports, which cover the period from October 2, 2017 to October 31, 2017, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 51 PMNs received by EPA during this period, Table 1 provides the following information (to the extent that such information is not claimed as CBI): The EPA case number assigned to the PMN; the date the PMN was received by EPA; the projected end date for EPA's review of the PMN; the submitting manufacturer/importer; the potential uses identified by the manufacturer/importer in the PMN; and the chemical identity.

Table 1—PMNs Received From October 2, 2017 to October 31, 2017
Case No. | Received date | Projected notice end date | Manufacturer/ importer | Use | Chemical
P-17-0008 | 10/14/2017 | 1/12/2018 | CBI | (S) Intermediate for use in the manufacture of polymers | (G) Modified 1,3-isobenzofurandione, polymer with 1,2-ethanediol, 2-ethyl-2-(alkoxyalkyl)-1,3-propanediol and 1,3-isobenzofurandione, alkanoate.
P-17-0009 | 10/14/2017 | 1/12/2018 | CBI | (S) Intermediate for use in the manufacture of polymers | (G) Depolymerized waste plastics.
P-17-0176 | 10/6/2017 | 1/4/2018 | CBI | (G) Battery ingredient | (G) Carbonic acid, alkyl carbomonocyclic ester.
P-17-0200 | 10/17/2017 | 1/15/2018 | CBI | (S) Monomer for use to manufacture of a high performance polymer | (G) 1,3-bis(substitutedbenzoyl)benzene.
P-17-0204 | 10/17/2017 | 1/15/2018 | CBI | (S) Monomer for high performance polymer | (G) 1,4-bis(substitutedbenzoyl)benzene.
P-17-0205 | 10/17/2017 | 1/15/2018 | CBI | (G) Process reagent | (G) Bis(fluorobenzoyl)benzene.
P-17-0205 | 10/17/2017 | 1/15/2018 | CBI | (S) Monomer for high performance polymer | (G) Bis(fluorobenzoyl)benzene.
P-17-0226 | 10/3/2017 | 1/1/2018 | Nease Corporation | (G) Bleach Catalyst | (S) Manganese(2+ ), bis(octahydro-1,4,7-trimethyl-1h-1,4,7-triazonine-.kappa.N1,Kappa.N4,kappa.N7)tri-.mu.-oxodi-,hexafluorophosphate(1-) (1:2).
P-17-0255 | 10/2/2017 | 12/31/2017 | Kao Specialties Americas LLC | (G) Additive in toner | (G) Carbomonocyclic dicarboxylic acid, polymer with carbomonocyclic dicarboxylic acid, alkanedioic acid, alkenedioic acid, substituted dioxo-heteropolycyclic, substituted dioxo-heteropolycyclic, alkanedioic acid, alkoxylated alkylidene dicarbomonocycle and alkoxylated alkylidene dicarbomonocycle, ester.
P-17-0256 | 10/10/2017 | 1/8/2018 | Kao Specialties Americas LLC | (G) Support resin | (G) Carbopolycyclic dicarboxylic acid, dialkyl ester, polymer with dialkyl carbomonocyclic diester, dialkyl substituted carbomonocyclic diester alkali metal salt and alkanediol.
P-17-0334 | 10/10/2017 | 1/8/2018 | CBI | (G) Chemical precursor | (G) Halogenated alkyl monocyclicamide.
P-17-0336 | 10/4/2017 | 1/2/2018 | CBI | (S) Cathode material for lithium ion battery | (S) Aluminum cobalt lithium nickel oxide.
P-17-0337 | 10/4/2017 | 1/2/2018 | CBI | (S) Cathode material for lithium ion batteries | (S) Aluminum boron cobalt lithium nickel oxide.
P-17-0338 | 10/4/2017 | 1/2/2018 | CBI | (S) Cathode material for lithium ion batteries | (S) Aluminum boron cobalt lithium magnesium nickel oxide.
P-17-0353 | 10/12/2017 | 1/10/2018 | CBI | (G) Additive in resin manufacture | (G) Heteromonocycle, 2-[(bicarbomonocycle-2-substituted)alkyl]-.
P-17-0354 | 10/20/2017 | 1/18/2018 | CBI | (G) Function as a solvent in electrolyte solution in batteries which will improve the performance of the batteries in consumer electronics and automotive applications | (G) (substituted-dialkyl(c=1~7)silyl)alkanenitrile.
P-17-0385 | 10/23/2017 | 1/21/2018 | Al-Fares Corporation | (S) Cleaning product for detailing vehicles. Industrial use emollient | (S) Carbonic acid, bis(2-ethylhexyl) ester.
P-17-0400 | 10/25/2017 | 1/23/2018 | CBI | (G) rubber products | (G) Terpolymer of vinylidene fluoride, tetrafluoroehylene and 2,3,3,3-tetrafluoropropene.
P-17-0405 | 10/2/2017 | 12/31/2017 | CBI | (G) Oil and gas well performance | (G) Halogentated benzoic acid ethyl ester.
P-17-0406 | 10/2/2017 | 12/31/2017 | CBI | (G) Oil and gas well performance | (G) Halogenated benzoic acid ethyl ester.
P-18-0001 | 10/5/2017 | 1/3/2018 | Nexus Fuels | (G) Additive | (G) Carbon compound (compd) derived from plastic depolymerization.
P-18-0002 | 10/2/2017 | 12/31/2017 | CBI | (S) Chemical intermediate | (G) Phosphinic acid, p,p-alkyl-, salt.
P-18-0004 | 10/10/2017 | 1/8/2018 | CBI | (G) Dispersant | (G) Alkoxy phosphate compd with alkylamine.
P-18-0005 | 10/11/2017 | 1/9/2018 | CBI | (G) Component for tire | (G) Buta-1,3-diene reaction product with alkyl aluminum and alkyl silyl substances.
P-18-0006 | 10/3/2017 | 1/1/2018 | CBI | (S) Intermediate | (S) 2-propenenitrile, trimer.
P-18-0007 | 10/4/2017 | 1/2/2018 | CBI | (S) Used as a plasticizer/stabilizer for flexible PVC | (S) Glycerides, soya mono- and di-, epoxidized, acetates.
P-18-0008 | 10/4/2017 | 1/2/2018 | CBI | (S) Used as a plasticizer/stabilizer for flexible PVC | (S) Glycerides, C16-18 and C18-unsaturated mono- and di-, epoxidized, acetates.
P-18-0009 | 10/4/2017 | 1/2/2018 | CBI | (G) Lubricant additive | (G) Phosphonic acid, dimethyl ester, polymer with alkyl diols.
P-18-0010 | 10/11/2017 | 1/9/2018 | CBI | (S) Polyurethane catalyst | (G) Aminoalkylated imidazole, n-me derivs.
P-18-0011 | 10/5/2017 | 1/3/2018 | Dioxide Materials | (S) It is used to add amine function to a polymer | (S) 1,2,4,5-tetramethylimidazole.
P-18-0012 | 10/6/2017 | 1/4/2018 | CBI | (G) Adhesives | (G) Polyester polyol.
P-18-0013 | 10/7/2017 | 1/5/2018 | Shin-Etsu Microsi | (G) Microlithography for electronic device manufacturing | (G) Substituted-triphenylsulfonium, inner salt.
P-18-0014 | 10/7/2017 | 1/5/2018 | Shin-Etsu Microsi | (G) Microlithography for electronic device manufacturing | (G) Sulfonium, triphenyl-, salt with disubstituted-heterocyclic compound (1:1).
P-18-0016 | 10/11/2017 | 1/9/2018 | CBI | (G) Additives used in Semiconductor chip manufacturing | (G) Aromatic sulfonium tricyclo fluoroalkyl sulfonic acid salt.
P-18-0017 | 10/18/2017 | 1/16/2018 | Allnex USA Inc | (S) Corrosion protection | (G) Substituted carbomonocycle, polymer with substituted heteromonocycle and substituted polyalkylene glycol.
P-18-0019 | 10/13/2017 | 1/11/2018 | Cabot Corporation | (S) Dispersive pigment | (G) Substituted benzene, 4-[2-[2-hydroxy-3-[[(3-nitrophenyl)amino]carbonyl]-1-naphthalenyl]diazenyl]-, sodium salt (1:1).
P-18-0020 | 10/16/2017 | 1/14/2018 | CBI | (G) Composites (G) Industrial Coating | (S) Butanediolic acid, polyol with 2-ethyl-2-(hydroxymethyl)-1,3-propanediol, 2,5-furandione and 1,3-propanediol, 3a,4,5,6,7,7a-hexahydro-4,7-methano-1h-inden-5(or 6)-yl ester.
P-18-0021 | 10/17/2017 | 1/15/2018 | CBI | (G) paint | (G) Dicarboxylic acids, polymers with substituted poly( substituted alkendiyl) ,3-hydroxy-2-(hydroxyalkyl)-2-alkylalkenoic acid, 5-substituted-1-(substituted alkyl)-1,3,3-trialkyl carbomonocyle, alkanediol, alkane-triol, alcohol blocked compounds with aminoalcohol.
P-18-0022 | 10/16/2017 | 1/14/2018 | Allnex USA Inc | (S) Corrosion protection | (G) Substituted carbomonocycle, polymer with halo substituted heteromonocycle and polyoxyalkylene polymer with alkylenebis[isocyanatocarbomonocycle] bis (carbomonocycle-dicarboxylate), reaction products with alkylamines, hydrolyzed.
P-18-0023 | 10/16/2017 | 1/14/2018 | CBI | (S) Epoxy hardner/curative | (G) Propanediol phosphate.
P-18-0025 | 10/17/2017 | 1/15/2018 | CBI | (G) Oil Additive | (G) Phosphoric acid, dialkyl ester, transition metal salt.
P-18-0026 | 10/23/2017 | 1/21/2018 | Hybrid Plastics, Inc | (G) oil additive | (S) Silsesquioxanes, 2,4,4-trimethylpentyl, hydroxy-terminated.
P-18-0027 | 10/19/2017 | 1/17/2018 | CBI | (G) The polymer will be used as an additive in coatings | (G) 2-propenoic acid, 2-alkyl-, 2-(dialkylamino)alkyl ester, polymer with alpha-(2-alkyl-1-oxo-2-alken-1-yl)-omega-methoxypoly(oxy-1,2-alkanediyl).
P-18-0028 | 10/18/2017 | 1/16/2018 | CBI | (G) Blending stock | (G) Branched cyclic and linear hydrocarbons from plastic depolymerization.
P-18-0029 | 10/20/2017 | 1/18/2018 | CBI | (G) Industrial use in Oilfield | (G) Fatty acids and fatty acid unsaturated, reaction products with ethyleneamines and maleic anhydride.
P-18-0030 | 10/23/2017 | 1/21/2018 | Miwon North America, Inc | (S) Resins for Industrial coating | (G) Poly[oxy(methyl-alkylendiyl)],alpha,alpha',alpha”-1,2,3-alkanetriyltris[omega-hydroxy-, polymer with 1,1′-alkylenebis[4-isocyanatocarbomonocycle], 2-substituted ethyl acrylate- and 2-substituted ethyl metacrylate-blocked.
P-18-0031 | 10/25/2017 | 1/23/2018 | CBI | (G) Ingredient for industrial coating | (G) Substituted dicarboxylic acid, polymer with various alkanediols.
P-18-0032 | 10/27/2017 | 1/25/2018 | US Paint Corp | (G) Component of coating | (G) Alkyl alkenoic acid, alkyl ester, polymer with alkyl alkenoate, dialkyl alkanediol, substituted carbomonocycle, disubstituted heteromonocycle, disubstituted heteropolycyclic, alkanediol, substituted alkyl alkyl alkenoate and substituted heteromonocycle, dialkyl peroxide initiated.
P-18-0033 | 10/30/2017 | 01/28/2018 | CBI | (S) Epoxy curing agent | (G) 2-propenenitrile, reaction products with alkylamine, hydrogenated, acids.
P-18-0034 | 10/30/2017 | 1/28/2018 | CBI | (S) Polyetheramine carboxylate salt used as a dispersing agent for pigments in industrial paints and coatings | (G) Polyetheramine carboxylate salt.
P-18-0037 | 10/30/2017 | 01/28/2018 | SHIN-ETSU Microsi | (G) Microlithography for electronic device manufacturing | (G) Sulfonium, triphenyl-, salt with 2,4,5-trisubstituted-benzenesulfonate (1:1).

For the 22 NOCs received by EPA during this period, Table 2 provides the following information (to the extent that such information is not claimed as CBI): The EPA case number assigned to the NOC; the date the NOC was received by EPA; the projected date of commencement provided by the submitter in the NOC; and the chemical identity.

Table 2—NOCs Received From October 2, 2017 to October 31, 2017
Case No. | Received date | Commencement notice end date | Chemical
P-99-0649 | 10/9/2017 | 1/25/2001 | (G) Ethylene terpolymer.
P-04-0773 | 10/12/2017 | 10/2/2017 | (S) Siloxanes and silicones, 3-[3-(diethylmethylammonio)-2- hydroxypropoxy]propyl me, di-me, chlorides.
P-05-0415 | 10/2/2017 | 9/6/2016 | (G) Acrylic polymer with styrene, peroxy-initiated.
P-08-0058 | 10/6/2017 | 9/21/2017 | (S) Nonadecane, 9-methylene-, mixed with 1-decene, dimers and trimers, hydrogenated.
P-08-0724 | 10/2/2017 | 8/23/2016 | (G) Cycloaliphatic anhydride, polymer with hydroxy alkyl diol, alkyl ester.
P-12-0241 | 10/11/2017 | 10/11/2017 | (G) [2-propenoic acid, 2-methyl-, 2-hydroxyethyl esters, telomers with C18-26-alkyl acrylate, 1-dodecanethiol, N-(hydroxymethyl)-2-methyl-2-propenamide, 3,3,4,4,5,5,6,6,7,7,8,8,8-tridecaflourooctyl methacrylate, 2,2-[1,2 diazenedylbis(1-methylethylidene)]bis[4,5-dihydro-1H- imidazole]hydrochloride (1:2)-initiated].
P-12-0513 | 10/2/2017 | 7/16/2016 | (G) Aromatic dicarboxylic acid, polymer with dialkyl alkanediol, alkyl-(hydroxyalkyl)-alkanediol, dicarboxylic acid, heteropolcyclic anhydride, alkanetriol, hydroxy- [(oxoalkyl)oxy]alkyl ester.
P-13-0754 | 10/20/2017 | 10/23/2013 | (G) Alkylphenol.
P-14-0112 | 10/24/2017 | 10/13/2017 | (G) Amides, from polyethylenepolyamines and tall-oil fatty acids, reaction products with alkyl monopolyisobutylene derivs.
P-14-0758 | 10/11/2017 | 9/27/2017 | (S) 2-propenenitrile, polymer with methanamine, hydrogenated, 3-aminopropyl-terminated, ethoxylated, propoxylated.
P-14-0869 | 10/4/2017 | 9/23/2017 | (G) Hexanedioic acid, polymer with alkyldiol, 1,6-hexanediol, dicarboxylic acid anhydride, 1,1′-methylenebis[isocyanatobenzene], alkylene oxides and .alpha., .alpha.′, .alpha.″-1,2,3-propanetriyltris[.omega.-hydroxypoly[oxy(methyl-1,2-ethanediyl)]].
P-15-0322 | 10/19/2017 | 9/26/2016 | (G) Poly[oxy(alkanediyl)],.alpha.,.alpha.′,.alpha.″-1,2,3-propanetriyltris[.omega.-(2-hydroxy-3-mercaptopropoxy)-.
P-15-0753 | 10/13/2017 | 8/29/2016 | (G) Polyester amine adduct.
P-16-0042 | 10/3/2017 | 6/16/2016 | (G) Polyammonium salt of a fatty acid.
P-16-0246 | 10/23/2017 | 10/17/2017 | (S) 2-pyridinecarboxylic acid, 6-(4-chloro-2-fluoro-3-methoxyphenyl)-4,5-difluoro-, phenylmethyl ester.
P-16-0322 | 10/10/2017 | 10/2/2017 | (G) Manganese cyclic (tri)amine chloride complex.
P-16-0466 | 10/2/2017 | 11/30/2016 | (G) 2,5-furandione, telomer with ethenylbenzene and (1-methylethyl)benzene, amides with polyethylene-polypropylene glycol aminoalkyl me ether, alkali salts.
P-16-0493 | 10/25/2017 | 10/16/2017 | (G) Dicarboxylic acids, polymers with alkyl prop-2-enoate, alkyl 2-methylprop-2-enoate, alkyl[(alkenyl)alkyl]alkanediol, alkanediol, alkanedioic acid, alkyl 2-methylprop-2-enoate,alkyl prop-2-enoic acid,alkylene [isocyanatocarbomonocyle] and alkanediol, alkanolamine-blocked, compds with 2·(alkylamino)alkanol.
P-16-0590 | 10/18/2017 | 9/20/2017 | (S) Silica gel, reaction products with chromium oxide (cro3) and ethoxydiethylaluminum.
P-17-0019 | 10/2/2017 | 2/8/2017 | (G) Hydroxyl alkyl acrylate ester, polymer with acrylates, aromatic vinyl monomer, cycloaliphatic lactone, and alkyl carboxylic acid, peroxide initiated.
P-17-0227 | 10/3/2017 | 6/23/2017 | (G) 2-propenoic acid, alkyl-, alkyl ester, polymer with alkyl 2-propenoate and alpha-(2-alkyl-1-oxo-2-propen-1-yl-omega-methoxypoly(oxy-1,2-alkanediyl), ester with alpha-2-propen-1-yl-omega-hydroxypoly(oxy-1,2-ethanediyl).
P-17-0236 | 10/6/2017 | 10/6/2017 | (G) Formaldehyde, polymer with (chloromethyl) oxirane and substituted aromatic compounds.

Authority: 15 U.S.C. 2601 et seq.

Dated: December 12, 2017.
Pamela Myrick,
Director, Information Management Division, Office of Pollution Prevention and Toxics.

[FR Doc. 2017-28315 Filed 12-29-17; 8:45 am]

BILLING CODE 6560-50-P